DEPARTMENT OF HEALTH AND HUMAN SERVICES

Administration for Children and Families

Submission for Office of Management and Budget Review; Administration for Children and Families Generic for Information Collections Related to Gatherings (New Collection)

AGENCY: Office of Planning, Research, and Evaluation, Administration for Children and Families, United States Department of Health and Human Services.

ACTION: Request for public comments.

SUMMARY: The Administration for Children and Families (ACF) at the U.S. Department of Health and Human Services intends to request approval from the Office of Management and Budget (OMB) for a generic clearance to request information from potential participants at ACF gatherings, such as meetings or conferences. The planning for these gatherings is most often on a quick timeline and the standard timeline to comply with a full request under the Paperwork Reduction Act (PRA) would inhibit the ability to collect information to inform these activities. Therefore, an umbrella generic is requested to allow for quick turnaround requests for similar information collections related to these activities.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: ACF hosts a variety of gatherings for many different purposes. This may include large scale conferences, meetings for grantees or contractors, workshops, trainings, poster sessions, and other in-person and virtual gatherings for individuals with interest in ACF programs (clients, researchers, policymakers, etc.), among others. To ensure ACF has adequate information to plan these activities, the Agency must often collect information from potential participants such as basic contact information, preferences for attendance (mode, special requests, etc.), organizational affiliation, feedback about meeting content, etc. Additionally, some activities require ACF to have additional information to have the means to select the most appropriate participants for attendance according to the type or purpose of a given activity, or to group participants into the most appropriate category or activity during an event. This may include information about poster presentations, speaking panels, training courses, professional perspectives, or experiences, etc. In addition, attendees may be asked to submit an application or abstract for prescreening to be selected for attendance.

The purposes of the collections under this umbrella generic information collection are to gather appropriate information to plan ACF gatherings. Example information collection activities could include:

• Registration forms

○ Information collected on these types of forms could include name, contact information, organization/affiliation, basic demographics, attendance needs, etc.

• Applications for panels, posters, or other presentation formats

○ Information collected on these types of applications could include title, author(s), institution/organization, abstract describing presentation or poster, instructions, etc.

• Pre-meeting surveys

○ Information collected on these types of surveys could include content preferences, scheduling needs and preferences, pre-meeting knowledge, etc.

• Post-Meeting/-Workshop/-Training Evaluation Surveys

○ Information collected on these types of surveys could include requests for feedback on the overall activity, feedback on content, post-meeting knowledge, post-meeting uses of content, preferences for future activities, etc.

As part of this generic, ACF requests OMB provide a response on individual generic information collections within 5 business days.

Note that this generic is primarily for information collected in connection with closed ACF meetings, as information collected in connection with public ACF meetings are not considered “information” under PRA per 44 U.S.C., 5 CFR ch. 11 (1-1-99 edition), 1320.3: Definitions.

Respondents: Potential respondents may include researchers, individuals with expertise in ACF program areas, individuals with interest in ACF program areas, those receiving ACF services, ACF grantees or contractors, among others with involvement or interest in ACF activities.

Total Burden Estimates
Example types of information collections | Total number of respondents | Total number of responses per respondent | Average burden hours per response | Total burden hours | Average hourly wage | Total annual cost
Registration Forms | 30,000 | 1 | .167 | 5,010 | $64 | $320,640
Applications | 5,000 | 1 | 1.5 | 7,500 | 64 | 480,000
Pre- and Post-activity Surveys | 20,000 | 1 | .5 | 10,000 | 64 | 640,000
Other Activities | 14,000 | 1 | .5 | 7,000 | 64 | 448,000
Estimated Totals | 69,000 |  | *.428 | 29,510 |  | 1,888,640
* Average.

Mary B. Jones,
ACF/OPRE Certifying Officer.

[FR Doc. 2023-16436 Filed 8-1-23; 8:45 am]

BILLING CODE 4184-79-P